Proclamation 9010 of August 30, 2013

National Prostate Cancer Awareness Month, 2013

By the President of the United States of America

A Proclamation

Among American men, prostate cancer is both the second most commonly diagnosed cancer and the second-leading cause of cancer deaths. Although prostate cancer incidence and mortality rates have declined over the past two decades, in 2013 alone, an estimated 239,000 men in the United States will be diagnosed with the illness, and almost 30,000 men will die from this disease. During National Prostate Cancer Awareness Month, we remember those lost to prostate cancer, offer our support to patients and their families, and highlight our commitment to better prevention, detection, and treatment methods.

The exact causes remain unknown, but medical professionals have identified several risk factors that can increase a man's chances of developing prostate cancer. It is more common among older men and men with a family history of prostate cancer. African American men also have a significantly higher risk, both of developing and dying from prostate cancer. I encourage all men to learn about warning signs by visiting www.Cancer.gov.

My Administration continues to support important prostate cancer research—research that will enhance our knowledge and improve prostate cancer prevention and treatment. The Affordable Care Act also offers new protections for all Americans. The health care law bans insurance companies from placing lifetime dollar limits on essential health benefits and from dropping coverage because of mistakes on insurance applications. Beginning in 2014, the Affordable Care Act will also eliminate annual dollar limits on vital benefits, and insurers will no longer be able to deny coverage or charge higher premiums to patients with prostate cancer—or any other pre-existing medical condition.

This month, I encourage all Americans to lend their support to family, friends, and neighbors whose lives have been touched by prostate cancer. Let us celebrate the compassion and perseverance of health care providers, researchers, and dedicated advocates. Together, we can raise awareness, support research, improve care, and reduce the impact of this disease on our citizens and our Nation.

NOW, THEREFORE, I, BARACK OBAMA, President of the United States of America, by virtue of the authority vested in me by the Constitution and the laws of the United States, do hereby proclaim September 2013 as National Prostate Cancer Awareness Month. I encourage all citizens, government agencies, private businesses, non-profit organizations, and other groups to join in activities that will increase awareness and prevention of prostate cancer.

IN WITNESS WHEREOF, I have hereunto set my hand this thirtieth day of August, in the year of our Lord two thousand thirteen, and of the Independence of the United States of America the two hundred and thirty-eighth.

[FR Doc. 2013-21823

Filed 9-5-13; 8:45 am]

Billing code 3295-F3